DEPARTMENT OF STATE

Bureau of European Affairs

[Public Notice 3374]

Irish Peace Process, Cultural and Training Program Support

Introduction

The United States Department of State announces an open competition for an assistance award. Nongovernmental organizations may apply to establish and manage a program that assists young people from disadvantaged areas of designated counties in Ireland and Northern Ireland that suffer from sectarian violence and high unemployment to enter and work in the United States. Program objectives include developing job skills and conflict resolution abilities in a diverse, cooperative, peaceful, and prosperous environment. Once these skills are achieved, program participants can return home better able to contribute toward economic regeneration and domestic tranquility. The program shall promote cross-community and cross-border understanding to build grassroots support for long-term peaceful coexistence. A cooperative agreement will be subject to the availability of funds.

Authority

Statutory authority for this cooperative agreement is contained in the Irish Peace Process Cultural and Training Program Act of 1998, Public Law 105-319.

Eligible Applicants

Eligible applicants include all nongovernmental institutions, private organizations, and commercial entities.

Availability of Funds

Approximately $3 million remain for expenditure from appropriated funds. Additional funding may be appropriated for this program prior to the expiration of statutory authority in 2005.

Continuing awards within the project period will be made on the basis of satisfactory progress and the availability of funds.

Purpose

Primary objectives for this program are to develop employment skills, impart conflict resolution ability, provide social services support for program participants, source jobs in the USA in designated sectors, match program participants and employers for visa certification, and develop information technology support to promote program objectives, track activity, and assist in identifying employment opportunities for their return home.

Evaluation Criteria

Technically eligible applicants will be competitively reviewed under 7 criteria. The criteria are: (1) Program planning and the ability to achieve objectives; (2) Institutional capacity; (3) Cost effectiveness and cost sharing; (4) Ability to objectively evaluate program achievements; (5) “Multiplier effect/impact”—strengthening of bilateral and multilateral peace and understanding; (6) Support of Diversity; and (7) Cultural sensitivity.

Other Requirements

Paperwork Reduction Act

Projects that involve the collection of information from 10 or more individuals and funded by the cooperative agreement will be subject to review by the Office of Management and Budget (OMB) under the Paperwork Reduction Act.

Application Submission and Deadline

The original and ten (10) copies of the application (Standard Form 424) must be submitted to the U.S. Department of State, Mr. William Zehnder, A/LM/AQM/IP, State Annex #44, Room M-27, 301 4th Street SW., Washington, DC 20547 on or before 1 September 2000. Late applications may only be considered at the sole discretion of the U.S. Department of State grant award officer.

Where To Obtain Additional Information

A detailed program description and application package may be obtained from Mr. William C. Zehnder., U.S. Department of State, A/LM/AQM/IP, State Annex #44, Room M-27, 301 4th Street SW., Washington, DC 20547, telephone (202) 619-4385. Please refer to the “Irish Peace Process” when requesting information or sending an application.

Dated: July 24, 2000.
Frank J. Kerber,
Country Officer for Ireland and Northern Ireland, U.S. Department of State.

[FR Doc. 00-19124 Filed 7-27-00; 8:45 am]

BILLING CODE 4710-23-U